FEDERAL COMMUNICATIONS COMMISSION

[DA 08-2523]

Notice of Debarment; Schools and Libraries Universal Service Support Mechanism

AGENCY: Federal Communications Commission.

ACTION: Notice.

SUMMARY: The Enforcement Bureau (the “Bureau”) debars Mr. Joseph E. Mello from the schools and libraries universal service support mechanism (or “E-Rate Program”) for a period of three years. The Bureau takes this action to protect the E-Rate Program from waste, fraud and abuse.

DATES: Debarment commences on the date Mr. Joseph E. Mello receives the debarment letter or November 28, 2008, whichever date come first, for a period of three years.

FOR FURTHER INFORMATION CONTACT: Rebekah Bina, Federal Communications Commission, Enforcement Bureau, Investigations and Hearings Division, Room 4-C330, 445 12th Street, SW., Washington, DC 20554. Rebekah Bina may be contacted by phone at (202) 418-7931 or e-mail at Rebekah.Bina@fcc.gov. If Ms. Bina is unavailable, you may contact Ms. Vickie Robinson, Assistant Chief, Investigations and Hearings Division, by telephone at (202) 418-1420 and by e-mail at vickie.robinson@fcc.gov.

SUPPLEMENTARY INFORMATION: The Bureau debarred Mr. Joseph E. Mello from the schools and libraries universal service support mechanism for a period of three years pursuant to 47 CFR 54.8 and 47 CFR 0.111. Attached is the debarment letter, DA 08-2523, which was mailed to Mr. Joseph E. Mello and released on November 18, 2008. The complete text of the notice of debarment is available for public inspection and copying during regular business hours at the FCC Reference Information Center, Portal II, 445 12th Street, SW., Room CY-A257, Washington, DC 20554. In addition, the complete text is available on the FCC's Web site at http://www.fcc.gov. The text may also be purchased from the Commission's duplicating inspection and copying during regular business hours at the contractor, Best Copy and Printing, Inc., Portal II, 445 12th Street, SW., Room CY-B420, Washington, DC 20554, telephone (202) 488-5300 or (800) 378-3160, facsimile (202) 488-5563, or via e-mail http://www.bcpiweb.com.

Federal Communications Commission.
Trent Harkrader,
Deputy Chief, Investigations and Hearings Division, Enforcement Bureau.

The debarment letter, which attached the suspension letter, follows:

November 18, 2008.

VIA CERTIFIED MAIL—RETURN RECEIPT REQUESTED AND VIA FACSIMILE (203) 787-9031

Mr. Joseph E. Mello, c/o Michael O. Sheehan, Esq., Sheehan & Reeve, 139 Orange St., Suite 301, New Haven, CT 06510.

Re: Notice of Debarment; File No. EB-08-IH-1615

Dear Mr. Mello: Pursuant to section 54.8 of the rules of the Federal Communications Commission (the “Commission”), by this Notice of Debarment you are debarred from the schools and libraries universal service support mechanism (or “E-Rate program”) for a period of three years.¹

¹ See 47 CFR 0.111(a), 54.8.

On September 4, 2008, the Enforcement Bureau (the “Bureau”) sent you a Notice of Suspension and Initiation of Debarment Proceedings (the “Notice of Suspension”).² That Notice of Suspension was published in the Federal Register on September 17, 2008.³ The Notice of Suspension suspended you from the schools and libraries universal service support mechanism and described the basis for initiation of debarment proceedings against you, the applicable debarment procedures, and the effect of debarment.⁴

² Letter from Hillary S. DeNigro, Chief, Investigations and Hearings Division, Enforcement Bureau, Federal Communications Commission, to Mr. Joseph Mello, Notice of Suspension and Initiation of Debarment Proceedings, DA 08-2041 (Inv. & Hearings Div., Enf. Bur., rel. Sept. 4, 2008) (Attachment 1).

³ 73 FR 53868 (Sept. 17, 2008).

⁴ See Notice of Suspension, 73 FR at 53869-70.

Pursuant to the Commission's rules, any opposition to your suspension or its scope or to your proposed debarment or its scope had to be filed with the Commission no later than thirty (30) calendar days from the earlier date of your receipt of the Notice of Suspension or publication of the Notice of Suspension in the Federal Register.⁵ The Commission did not receive any such opposition.

⁵ See 47 CFR 54.8(e)(3) and (4). That date occurred no later than October 17, 2008. See supra note 3.

As discussed in the Notice of Suspension, you pled guilty to mail fraud and income tax fraud, in violation of 18 U.S.C. 1341, in connection with your participation in the E-Rate program involving telecommunications upgrade projects in four Connecticut school districts.⁶ You admitted to participating in a scheme to defraud the E-Rate program whereby you agreed, in your capacity as Vice President of Operations for Innovative Network Solutions (“INS”), to accept invoices submitted by fictitious companies for work allegedly performed in the Connecticut school districts.⁷ As a result of your actions, INS made payments totaling $608,505 on those fictitious invoices that were ultimately submitted to the Universal Service Administrative Company as legitimately reimbursable services under the E-Rate program.⁸ Such conduct constitutes the basis for your debarment, and your conviction falls within the categories of causes for debarment under section 54.8(c) of the Commission's rules.⁹ For the foregoing reasons, you are hereby debarred for a period of three years from the debarment date, i.e., the earlier date of your receipt of this Notice of Debarment or its publication date in the Federal Register.¹⁰ Debarment excludes you, for the debarment period, from activities “associated with or related to the schools and libraries support mechanism,” including “the receipt of funds or discounted services through the schools and libraries support mechanism, or consulting with, assisting, or advising applicants or service providers regarding the schools and libraries support mechanism.” ¹¹

⁶ 73 FR at 53869.

⁷ Id.

⁸ Id.

⁹ 47 CFR 54.8(c).

¹⁰ See 47 CFR 54.8(g). See also Notice of Suspension, 73 FR at 53870.

¹¹ See 47 CFR 54.8(a)(1), 54.8(a)(5), 54.8(d); Notice of Suspension, 73 FR at 53869.

Sincerely,

Hillary S. DeNigro,

Chief, Investigations and Hearings Division, Enforcement Bureau.

cc: Calvin B. Kurimai, Esq., Assistant United States Attorney, Department of Justice (via e-mail)

Kristy Carroll, Esq., Universal Service Administrative Company (via e-mail)

September 4, 2008.

DA 08-2041

VIA CERTIFIED MAIL

RETURN RECEIPT REQUESTED AND E-MAIL

Mr. Joseph E. Mello, c/o Michael O. Sheehan, Esq., Sheehan & Reeve, 139 Orange St., Suite 301, New Haven, CT 06510.

Re: Notice of Suspension and Initiation of Debarment Proceedings, File No. EB-08-IH-1615

Dear Mr. Mello: The Federal Communications Commission (“FCC” or “Commission”) has received notice of your conviction of mail fraud, in violation of 18 U.S.C. 1341, and subscribing a false tax return, in violation of 26 U.S.C. 7206(1), in connection with your participation in the schools and libraries universal service support mechanism (“E-Rate program”).¹² Consequently, pursuant to 47 CFR 54.8, this letter constitutes official notice of your suspension from the E-Rate program. In addition, the Enforcement Bureau (“Bureau”) hereby notifies you that we are commencing debarment proceedings against you.¹³

¹² Any further reference in this letter to “your conviction” refers to your guilty plea and subsequent conviction of one count of mail fraud and one count of subscribing a false tax return. United States v. Joseph E. Mello, Criminal Docket No. 3:07-CR-00224 (RNC-1), Plea Agreement (D. Conn. filed and entered Oct. 9, 2007) (“Mello Plea Agreement”); United States v. Joseph E. Mello, 3:07-CR-00224 (RNC-1), Judgment (D.Conn. filed June 26, 2008 and entered June 30, 2008) (“Mello Judgment”). See also United States v. Joseph E. Mello, Criminal Docket No. 3:07-CR-00224 (RNC-1), Information (D. Conn. filed and entered Oct. 9, 2007) (“Mello Information”).

¹³ 47 CFR 54.8; 47 CFR 0.111 (delegating to the Enforcement Bureau authority to resolve universal service suspension and debarment proceedings). The Commission adopted debarment rules for the schools and libraries universal service support mechanism in 2003. See Schools and Libraries Universal Service Support Mechanism, Second Report and Order and Further Notice of Proposed Rulemaking, 18 FCC Rcd 9202 (2003) (“Second Report and Order”) (adopting section 54.521 to suspend and debar parties from the E-rate program). In 2007, the Commission extended the debarment rules to apply to all of the Federal universal service support mechanisms. Comprehensive Review of the Universal Service Fund Management, Administration, and Oversight; Federal-State Joint Board on Universal Service; Schools and Libraries Universal Service Support Mechanism; Lifeline and Link Up; Changes to the Board of Directors for the National Exchange Carrier Association, Inc., Report and Order, 22 FCC Rcd 16372, 16410-12 (2007) (Program Management Order) (renumbering section 54.521 of the universal service debarment rules as section 54.8 and amending subsections (a)(1), (5), (c), (d), (e)(2)(i), (3), (e)(4), and (g)).

I. Notice of Suspension

The Commission has established procedures to prevent persons who have “defrauded the government or engaged in similar acts through activities associated with or related to the schools and libraries support mechanism” from receiving the benefits associated with that program.¹⁴ You pled guilty to mail fraud and income tax fraud in connection with your participation in the E-Rate program involving telecommunications upgrade projects in four Connecticut school districts.¹⁵ While employed as Vice President of Operations for Innovative Network Solutions (“INS”), a first-tier subcontractor of Southwestern Bell Communications (“SBC”) for performing E-Rate funded telecommunications upgrades, you and former SBC employees Richard E. Brown and Keith J. Madeiros participated in a scheme to defraud the E-Rate program.¹⁶ In your position at INS, you agreed to accept invoices submitted by fictitious companies created by Mr. Madeiros and Mr. Brown for work allegedly performed in the Connecticut school districts.¹⁷ INS made payments totaling $608,505 on those fictitious invoices and then passed the costs on to SBC as legitimately reimbursable services under the E-Rate program.¹⁸

¹⁴ Second Report and Order, 18 FCC Rcd at 9225, para. 66. The Commission's debarment rules define a “person” as “[a]ny individual, group of individuals, corporation, partnership, association, unit of government or legal entity, however, organized.” 47 CFR 54.8(a)(6).

¹⁵ See Mello Information at 2; Mello Plea Agreement at 1-2, 5; Mello Judgment at 1.

¹⁶ Mello Information at 3. The Bureau has debarred Richard E. Brown and Keith Madeiros from the E-Rate Program. See Letter from Hillary S. DeNigro, Chief, Investigations and Hearings Division, Enforcement Bureau, to Richard E. Brown, Notice of Debarment, 22 FCC Rcd 20569 (Inv. & Hearings Div., Enf. Bur. 2007); Letter from Hillary S. DeNigro, Chief, Investigations and Hearings Division, Enforcement Bureau, to Keith J. Madeiros, Notice of Debarment, 23 FCC Rcd 7959 (Inv. & Hearings Div., Enf. Bur. 2008).

¹⁷ Mello Information at 2-4. See also Department of Justice, Press Release (Oct. 9, 2007) (available at http://www.usdoj.gov/usao/ct/Press2007/20071009.html) (last accessed Feb. 5, 2008) (”DOJ October 9 Press Release”).

¹⁸ Mello Information at 4.

Pursuant to section 54.8(a)(4) of the Commission's rules,¹⁹ your conviction requires the Bureau to suspend you from participating in any activities associated with or related to the schools and libraries fund mechanism, including the receipt of funds or discounted services through the schools and libraries fund mechanism, or consulting with, assisting, or advising applicants or service providers regarding the schools and libraries support mechanism.²⁰ Your suspension becomes effective upon the earlier of your receipt of this letter or publication of notice in the Federal Register.²¹

¹⁹ 47 CFR 54.8(a)(4). See Second Report and Order, 18 FCC Rcd at 9225-27, paras. 67-74.

²⁰ Second Report and Order, 18 FCC Rcd at 9225, para. 67; 47 U.S.C. 254; 47 CFR 54.502-54.503; 47 CFR 54.521(a)(4).

²¹ Second Report and Order, 18 FCC Rcd at 9226, para. 69; 47 CFR 54.8(e)(1).

Suspension is immediate pending the Bureau's final debarment determination. In accordance with the Commission's debarment rules, you may contest this suspension or the scope of this suspension by filing arguments in opposition to the suspension, with any relevant documentation. Your request must be received within 30 days after you receive this letter or after notice is published in the Federal Register, whichever comes first.²² Such requests, however, will not ordinarily be granted.²³ The Bureau may reverse or limit the scope of suspension only upon a finding of extraordinary circumstances.²⁴ Absent extraordinary circumstances, the Bureau will decide any request for reversal or modification of suspension within 90 days of its receipt of such request.²⁵

²² 47 CFR 54.8(e)(4).

²³ Id.

²⁴ 47 CFR 54.8(e)(5).

²⁵ See Second Report and Order, 18 FCC Rcd at 9226, para. 70; 47 CFR 54.8(e)(5), 54.8(f).

II. Initiation of Debarment Proceedings

Your guilty plea to criminal conduct in connection with the E-Rate program, in addition to serving as a basis for immediate suspension from the program, also serves as a basis for the initiation of debarment proceedings against you. Your conviction falls within the categories of causes for debarment defined in section 54.8(c) of the Commission's rules.²⁶ Therefore, pursuant to section 54.8(a)(4) of the Commission's rules, your conviction requires the Bureau to commence debarment proceedings against you.

²⁶ “Causes for suspension and debarment are the conviction of or civil judgment for attempt or commission of criminal fraud, theft, embezzlement, forgery, bribery, falsification or destruction of records, making false statements, receiving stolen property, making false claims, obstruction of justice and other fraud or criminal offense arising out of activities associated with or related to the schools and libraries support mechanism.” 47 CFR 54.8(c). Such activities “include the receipt of funds or discounted services through [the Federal universal service] support mechanisms, or consulting with, assisting, or advising applicants or service providers regarding [the Federal universal service] support mechanism.” 47 CFR 54.8(a)(1).

As with your suspension, you may contest debarment or the scope of the proposed debarment by filing arguments and any relevant documentation within 30 calendar days of the earlier of the receipt of this letter or of publication in the Federal Register.²⁷ Absent extraordinary circumstances, the Bureau will debar you.²⁸ Within 90 days of receipt of any opposition to your suspension and proposed debarment, the Bureau, in the absence of extraordinary circumstances, will provide you with notice of its decision to debar.²⁹ If the Bureau decides to debar you, its decision will become effective upon the earlier of your receipt of a debarment notice or publication of the decision in the Federal Register.³⁰

²⁷ See Second Report and Order, 18 FCC Rcd at 9226, para. 70; 47 CFR 54.8(e)(3).

²⁸ Second Report and Order, 18 FCC Rcd at 9227, para. 74.

²⁹ See id., 18 FCC Rcd at 9226, para. 70; 47 CFR 54.8(e)(5).

³⁰ Id. The Commission may reverse a debarment, or may limit the scope or period of debarment upon a finding of extraordinary circumstances, following the filing of a petition by you or an interested party or upon motion by the Commission. 47 CFR 54.8(f).

If and when your debarment becomes effective, you will be prohibited from participating in activities associated with or related to the schools and libraries support Mechanism for three years from the date of debarment.³¹ The Bureau may, if necessary to protect the public interest, extend the debarment period.³²

³¹ Second Report and Order, 18 FCC Rcd at 9225, para. 67; 47 CFR 54.8(d), 54.8(g).

³² Id.

Please direct any response, if by messenger or hand delivery, to Marlene H. Dortch, Secretary, Federal Communications Commission, 236 Massachusetts Avenue, NE., Suite 110, Washington, DC 20002, to the attention of Rebekah Bina, Attorney Advisor, Investigations and Hearings Division, Enforcement Bureau, Room 4-C330, with a copy to Vickie Robinson, Assistant Chief, Investigations and Hearings Division, Enforcement Bureau, Room 4-C330, Federal Communications Commission. If sent by commercial overnight mail (other than U.S. Postal Service Express Mail and Priority Mail), the response should be sent to the Federal Communications Commission, 9300 East Hampton Drive, Capitol Heights, Maryland 20743. If sent by first-class, Express, or Priority mail, the response should be sent to Rebekah Bina, Attorney Advisor, Investigations and Hearings Division, Enforcement Bureau, Federal Communications Commission, 445 12th Street, SW., Room 4-C330, Washington, DC, 20554, with a copy to Vickie Robinson, Assistant Chief, Investigations and Hearings Division, Enforcement Bureau, Federal Communications Commission, 445 12th Street, SW., Room 4-C330, Washington, DC, 20554. You shall also transmit a copy of the response via e-mail to Rebekah.Bina@fcc.gov and to Vickie.Robinson@fcc.gov.

If you have any questions, please contact Ms. Bina via mail, by telephone at (202) 418-7931 or by e-mail at Rebekah.Bina@fcc.gov. If Ms. Bina is unavailable, you may contact Ms. Vickie Robinson, Assistant Chief, Investigations and Hearings Division, by telephone at (202) 418-1420 and by e-mail at Vickie.Robinson@fcc.gov.

Sincerely yours,

Hillary S. DeNigro,

Chief, Investigations and Hearings Division, Enforcement Bureau.

cc: Calvin B. Kurimai, Esq., Assistant United States Attorney

Kristy Carroll, Esq., Universal Service Administrative Company (via e-mail)

[FR Doc. E8-28373 Filed 11-26-08; 8:45 am]

BILLING CODE 6712-01-P